DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Mobile (FEMA Docket No.: B-1262) | City of Saraland (11-04-6989P) | The Honorable Howard Rubenstein, Mayor, City of Saraland, 716 Saraland Boulevard South, Saraland, AL 36571 | City Hall, 716 Saraland Boulevard South, Saraland, AL 36571 | August 9, 2012 | 010171
Mobile (FEMA Docket No.: B-1262) | Unincorporated areas of Mobile County (11-04-6989P) | The Honorable Connie Hudson, President, Mobile County Board of Commissioners, P.O. Box 1443, Mobile, AL 36633 | Mobile County Government Plaza, Engineering Department, 205 Government Street, 3rd Floor, South Tower, Mobile, AL 36644 | August 9, 2012 | 015008
Arkansas:
Benton (FEMA Docket No.: B-1249) | City of Bentonville (11-06-3059P) | The Honorable Bob McCaslin, Mayor, City of Bentonville, 117 West Central Avenue, Bentonville, AR 72712 | 117 West Central Avenue, Bentonville, AR 72712 | April 27, 2012 | 050012
Benton (FEMA Docket No.: B-1249) | Unincorporated areas of Benton County (11-06-3059P) | The Honorable Robert Clinard, Benton County Judge, 215 East Central Avenue, Bentonville, AR 72712 | 215 East Central Avenue, Bentonville, AR 72712 | April 27, 2012 | 050419
Pulaski (FEMA Docket No.: B-1252) | City of Little Rock (11-06-4271P) | The Honorable Mark Stodola, Mayor, City of Little Rock, 500 West Markham Street, Room 203, Little Rock, AR 72201 | Department of Public Works, 701 West Markham Street, Little Rock, AR 72201 | June 6, 2012 | 050181
Pulaski (FEMA Docket No.: B-1252) | Unincorporated areas of Pulaski County (11-06-4271P) | The Honorable Floyd G. Villines, Pulaski County Judge, 201 South Broadway Street, Suite 400, Little Rock, AR 72201 | 501 West Markham Street, Suite A, Little Rock, AR 72201 | June 6, 2012 | 050179
Florida:
Jackson (FEMA Docket No.: B-1257) | Town of Bascom (12-04-2176P) | The Honorable Ann Bryan, Mayor, Town of Bascom, 4967 Basswood Road, Bascom, FL 32423 | Town Hall, 4969 Basswood Road, Bascom, FL 32423 | August 16, 2012 | 120069
Jackson (FEMA Docket No.: B-1257) | Unincorporated areas of Jackson County (12-04-2176P) | The Honorable Chuck Lockey, Chairman, Jackson County Board of Commissioners, 2864 Madison Street, Marianna, FL 32448 | Chamber of Commerce, 4318 Lafayette Street Marianna, FL 32446 | August 16, 2012 | 120125
Maryland:
Washington (FEMA Docket No.: B-1271) | Unincorporated areas of Washington County (12-03-1044P) | The Honorable Terry L. Baker, President, Washington County Board of Commissioners, 100 West Washington Street, Room 226, Hagerstown, MD 21740 | Washington County Administration Building, 100 West Washington Street, Hagerstown, MD 21740 | November 13, 2012 | 240070
New Mexico:
Sandoval (FEMA Docket No.: B-1249) | Unincorporated areas of Sandoval County (11-06-0073P) | The Honorable Darryl Madalena, Chairman, Sandoval County Commission, P.O. Box 40, Bernalillo, NM 87004 | 711 Camino Del Pueblo, Bernalillo, NM 87004 | May 4, 2012 | 350055
Sandoval (FEMA Docket No.: B-1257) | Unincorporated areas of Sandoval County (11-06-1258P) | The Honorable Darryl Madalena, Chairman, Sandoval County Commission, P.O. Box 40, Bernalillo, NM 87004 | 711 Camino Del Pueblo, Bernalillo, NM 87004 | July 6, 2012 | 350055
Oklahoma:
Cleveland (FEMA Docket No.: B-1257) | City of Norman (11-06-4261P) | The Honorable Cindy S. Rosenthal, Mayor, City of Norman, P.O. Box 370, Norman, OK 73070 | 201 West Gray Street, Building A, Norman, OK 73069 | August 1, 2012 | 400046
Comanche (FEMA Docket No.: B-1262) | City of Lawton (11-06-3319P) | The Honorable Fred L. Fitch, Mayor, City of Lawton, 212 Southwest 9th Street, Lawton, OK 73501 | 103 Southwest 4th Street, Lawton, OK 73501 | August 10, 2012 | 400049
Mayes (FEMA Docket No.: B-1257) | City of Pryor Creek (12-06-0785P) | The Honorable Jimmy Tramel, Mayor, City of Pryor Creek, 6 North Adair Street, Pryor, OK 74361 | 6 North Adair Street, Pryor, OK 74361 | June 22, 2012 | 400117
Mayes (FEMA Docket No.: B-1257) | Unincorporated areas of Mayes County (12-06-0785P) | The Honorable Alva Martin, Commissioner, Mayes County, 1 Court Place, Suite 140, Pryor, OK 74361 | 1 Court Place, Suite 140, Pryor, OK 74361 | June 22, 2012 | 400458
Oklahoma (FEMA Docket No.: B-1249) | City of Oklahoma City (10-06-2593P) | The Honorable Mick Cornett, Mayor, City of Oklahoma City, 200 North Walker Avenue, 3rd Floor, Oklahoma City, OK 73102 | 420 West Main Street, Suite 700, Oklahoma City, OK 73102 | May 17, 2012 | 405378
Oklahoma (FEMA Docket No.: B-1249) | City of Oklahoma City (11-06-3061P) | The Honorable Mick Cornett, Mayor, City of Oklahoma City, 200 North Walker Avenue, 3rd Floor, Oklahoma City, OK 73102 | 420 West Main Street, Suite 700, Oklahoma City, OK 73102 | May 9, 2012 | 405378
Oklahoma (FEMA Docket No.: B-1262) | City of The Village (12-06-0066P) | The Honorable C. Scott Symes, Mayor, City of The Village, 2304 Manchester Drive, The Village, OK 73120 | City Hall, 2304 Manchester Drive, The Village, OK 73120 | August 13, 2012 | 400420
Tulsa (FEMA Docket No.: B-1257) | City of Tulsa (11-06-1755P) | The Honorable Dewey F. Bartlett, Jr., Mayor, City of Tulsa, 175 East 2nd Street, Suite 690, Tulsa, OK 74103 | Stormwater Design Office, 2317 South Jackson Avenue, Suite 302, Tulsa, OK 74107 | July 5, 2012 | 405381
Tulsa (FEMA Docket No.: B-1249) | City of Tulsa (11-06-2274P) | The Honorable Dewey F. Bartlett, Jr., Mayor, City of Tulsa, 175 East 2nd Street, Suite 690, Tulsa, OK 74103 | Stormwater Design Office, Engineering Services Department, 2317 South Jackson, Suite 302, Tulsa, OK 74103 | May 18, 2012 | 405381
Pennsylvania:
Allegheny (FEMA Docket No.: B-1262) | Township of O'Hara (11-03-1924P) | The Honorable Robert John Smith, Council President, Township of O'Hara, 325 Fox Chapel Road, Pittsburgh, PA 15238 | Township Office, 325 Fox Chapel Road, Pittsburgh, PA 15238 | August 10, 2012 | 421088
Bucks (FEMA Docket No.: B-1249) | Township of Lower Southampton (11-03-2022P) | The Honorable Ted Taylor, Manager, Township of Lower Southampton, 1500 Desire Avenue, Feasterville, PA 19053 | Township of Lower Southampton Zoning Department, 1500 Desire Avenue, Feasterville, PA 19053 | May 4, 2012 | 420192
Delaware (FEMA Docket No.: B-1257) | Township of Radnor (11-03-1189P) | The Honorable William A. Spingler, President of the Board of Commissioners, Township of Radnor, 301 Iven Avenue, Wayne, PA 19087 | Radnor Township Building, 301 Iven Avenue, Wayne, PA 19087 | August 2, 2012 | 420428
Puerto Rico: Puerto Rico (FEMA Docket No.: B-1268) | Commonwealth of Puerto Rico (11-02-2538P) | Mr. Ruben Flores-Marzan, Chairman, Puerto Rico Planning Board, Roberto Sanchez Vilella Governmental Center, North Building, 16th Floor, De Diego Avenue, International Baldorioty de Castro Avenue, San Juan, PR 00940 | Roberto Sanchez Vilella Governmental Center, North Building, 9th Floor, De Diego Avenue, International Baldorioty de Castro Avenue, San Juan, PR 00940 | September 4, 2012 | 720000
Texas:
Bandera (FEMA Docket No.: B-1257) | Unincorporated areas of Bandera County (12-06-0946P) | The Honorable Richard Evans, Bandera County Judge, 500 Main Street, Bandera, TX 78003 | Bandera County Rural Addressing Office, 502 11th Street, Bandera, TX 78003 | June 28, 2012 | 480020
Bell (FEMA Docket No.: B-1252) | City of Harker Heights (11-06-1826P) | The Honorable Mike Aycock, Mayor, City of Harker Heights, 1300 East FM 2410, Harker Heights, TX 76548 | 305 Miller's Crossing, Harker Heights, TX 76548 | May 30, 2012 | 480029
Bell (FEMA Docket No.: B-1257) | City of Killeen (11-06-4177P) | The Honorable Timothy L. Hancock, Mayor, City of Killeen, P.O. Box 1329, Killeen, TX 76541 | City Hall, 101 North College Street, Killeen, TX 76540 | August 1, 2012 | 480031
Bell (FEMA Docket No.: B-1262) | City of Temple (11-06-4085P) | The Honorable William A. Jones III, Mayor, City of Temple, 2 North Main Street, Temple, TX 76501 | City Hall, 2 North Main Street, Temple, TX 76501 | August 13, 2012 | 480034
Bell (FEMA Docket No.: B-1257) | Unincorporated areas of Bell County (11-06-4177P) | The Honorable Jon H. Burrows, Bell County Judge, 101 East Central Avenue, Belton, TX 76513 | Bell County Courthouse, 101 East Central Avenue, Belton, TX 76513 | August 1, 2012 | 480706
Bexar (FEMA Docket No. B-1257) | City of Converse (11-06-0362P) | The Honorable Al Suarez, Mayor, City of Converse, 403 South Seguin Street, Converse, TX 78109 | City Hall, 403 South Seguin Street, Converse, TX 78109 | June 29, 2012 | 480038
Bexar (FEMA Docket No.: B-1257) | City of Leon Valley (11-06-2731P) | The Honorable Chris Riley, Mayor, City of Leon Valley, 6400 El Verde Road, Leon Valley, TX 78238 | City Hall, 6400 El Verde Road, Leon Valley, TX 78238 | June 6, 2012 | 480042
Bexar (FEMA Docket No.: B-1257) | City of San Antonio (12-06-0888P) | The Honorable Julian Castro, Mayor, City of San Antonio, City Hall, 100 Military Plaza, San Antonio, TX 78205 | Municipal Plaza, 114 West Commerce Street, 7th Floor, San Antonio, TX 78205 | August 2, 2012 | 480045
Bexar (FEMA Docket No.: B-1257) | City of Shavano Park (12-06-0888P) | The Honorable A. David Marne, Mayor, City of Shavano Park, 900 Saddletree Court, Shavano Park, TX 78231 | City Hall, 900 Saddletree Court, Shavano Park, TX 78231 | August 2, 2012 | 480047
Bexar (FEMA Docket No.: B-1257) | Unincorporated areas of Bexar County (11-06-4222P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | July 20, 2012 | 480035
Bexar (FEMA Docket No.: B-1257) | Unincorporated areas of Bexar County (11-06-4323P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | July 13, 2012 | 480035
Bexar (FEMA Docket No.: B-1257) | Unincorporated areas of Bexar County (11-06-4494P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | July 20, 2012 | 480035
Bexar (FEMA Docket No.: B-1257) | Unincorporated areas of Bexar County (11-06-4594P) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | August 2, 2012 | 480035
Bexar (FEMA Docket No.: B-1262) | Unincorporated areas of Bexar County (12-06-1691X) | The Honorable Nelson W. Wolff, Bexar County Judge, Paul Elizondo Tower, 101 West Nueva Street, 10th Floor, San Antonio, TX 78205 | Bexar County Infrastructure Services Department, Public Works Division, 233 North Pecos La Trinidad Street, Suite 420, San Antonio, TX 78207 | August 9, 2012 | 480035
Collin (FEMA Docket No.: B-1249) | City of McKinney (11-06-1798P) | The Honorable Brian S. Loughmiller, Mayor, City of McKinney, 222 North Tennessee Street, McKinney, TX 75069 | 222 North Tennessee Street, McKinney, TX 75069 | May 3, 2012 | 480135
Collin (FEMA Docket No.: B-1252) | City of Richardson (12-06-0547X) | The Honorable Bob Townsend, Mayor, City of Richardson, 411 West Arapaho Road, Richardson, TX 75080 | City Hall, 411 West Arapaho Road, Richardson, TX 75080 | June 22, 2012 | 480184
Collin (FEMA Docket No.: B-1257) | City of Wylie (11-06-1847P) | The Honorable Eric Hogue, Mayor, City of Wylie, 300 Country Club Road, Building 100, Wylie, TX 75098 | 300 Country Club Road, Building 100, 2nd Floor, Wylie, TX 75098 | August 2, 2012 | 480759
Collin and Dallas (FEMA Docket No.: B-1257) | City of Sachse (11-06-2894P) | The Honorable Mike Felix, Mayor, City of Sachse, 3815 Sachse Road, Building B, Sachse, TX 75048 | City Hall, 3815 Sachse Road, Building B, Sachse, TX 75048 | July 6, 2012 | 480186
Comal (FEMA Docket No.: B-1257) | City of New Braunfels (11-06-3632P) | The Honorable Gale Pospisil, Mayor, City of New Braunfels, 424 South Castell Avenue, New Braunfels, TX 78130 | 195 David Jonas Drive, New Braunfels, TX 78132 | May 31, 2012 | 485493
Dallas (FEMA Docket No.: B-1262) | City of Duncanville (11-06-3271P) | The Honorable David L. Green, Mayor, City of Duncanville, 203 East Wheatland Road, Duncanville, TX 75116 | City Hall, 203 East Wheatland Road, Duncanville, TX 75116 | June 18, 2012 | 480173
Denton (FEMA Docket No.: B-1252) | Town of Little Elm (12-06-0531P) | The Honorable Charles Platt, Mayor, Town of Little Elm, 100 West Eldorado Parkway, Little Elm, TX 75068 | Town Hall, 100 West Eldorado Parkway, Little Elm, TX 75068 | June 4, 2012 | 481152
Fort Bend (FEMA Docket No.: B-1257) | City of Sugar Land (11-06-0225P) | The Honorable James Thompson, Mayor, City of Sugar Land, 2700 Town Center, Boulevard North, Sugar Land, TX 77479 | Public Works Department, 111 Gillingham Lane, Sugar Land, TX 77478 | July 5, 2012 | 480234
Fort Bend (FEMA Docket No.: B-1257) | Unincorporated areas of Fort Bend County (11-06-0225P) | The Honorable Robert Hebert, Fort Bend County Judge, 301 Jackson Street, Richmond, TX 77469 | Engineer's Office, 1124 Blume Road, Rosenburg, TX 77471 | July 5, 2012 | 480228
Galveston (FEMA Docket No.: B-1262) | City of Galveston (11-06-3812P) | The Honorable Joe Jaworski, Mayor, City of Galveston, 823 Rosenberg Street, Galveston, TX 77553 | City Hall, 823 Rosenberg Street, Galveston, TX 77553 | August 10, 2012 | 485469
Guadalupe (FEMA Docket No.: B-1249) | City of Cibolo (11-06-2370P) | The Honorable Jennifer Hartman, Mayor, City of Cibolo, 200 South Main Street, Cibolo, TX 78108 | 200 South Main Street, Cibolo, TX 78108 | May 4, 2012 | 480267
Guadalupe (FEMA Docket No.: B-1249) | City of Seguin (11-06-2342P) | The Honorable Betty Ann Matthies, Mayor, City of Seguin, 210 East Gonzales Street, Seguin, TX 78155 | City Hall, 205 North River Street, Seguin, TX 78155 | April 25, 2012 | 485508
Guadalupe (FEMA Docket No.: B-1257) | City of Seguin (12-06-0870X) | The Honorable Betty Ann Matthies, Mayor, City of Seguin, 210 East Gonzales Street, Seguin, TX 78155 | City Hall, 205 North River Street, Seguin, TX 78155 | August 1, 2012 | 485508
Guadalupe (FEMA Docket No.: B-1249) | Unincorporated areas of Guadalupe County (11-06-2342P) | The Honorable Mike Wiggins, Guadalupe County Judge, 211 West Court Street, Seguin, TX 78155 | Guadalupe County Environmental Health Department, 2605 North Guadalupe Street, Seguin, TX 78155 | April 25, 2012 | 480266
Guadalupe (FEMA Docket No.: B-1249) | Unincorporated areas of Guadalupe County (11-06-2370P) | The Honorable Mike Wiggins, Guadalupe County Judge, 211 West Court Street, Seguin, TX 78155 | Guadalupe County Environmental Health Department, 2605 North Guadalupe Street, Seguin, TX 78155 | May 4, 2012 | 480266
Harris (FEMA Docket No.: B-1252) | Unincorporated areas of Harris County (12-06-0410P) | The Honorable Ed Emmett, Harris County Judge, 1001 Preston Street, Suite 911, Houston, TX 77002 | 10555 Northwest Freeway, Houston, TX 77092 | June 20, 2012 | 480287
Hays (FEMA Docket No.: B-1249) | Unincorporated areas of Hays County (11-06-3956P) | The Honorable Bert Cobb, M.D., Hays County Judge, 111 East San Antonio Street, Suite 300, San Marcos, TX 78666 | 1251 Civic Center Loop, San Marcos, TX 78666 | May 24, 2012 | 480321
Hays (FEMA Docket No.: B-1249) | Village of Wimberley (11-06-3956P) | The Honorable Bob Flocke, Mayor, City of Wimberley, 221 Stillwater Road, Wimberley, TX 78676 | 13210 Ranch Road 12, Wimberley, TX 78676 | May 24, 2012 | 481694
Jefferson (FEMA Docket No.: B-1252) | City of Beaumont (12-06-0696X) | The Honorable Becky Ames, Mayor, City of Beaumont, 801 Main Street, Beaumont, TX 77701 | City Hall, 801 Main Street, Beaumont, TX 77701 | June 25, 2012 | 485457
Johnson (FEMA Docket No.: B-1252) | City of Burleson (11-06-1749P) | The Honorable Ken D. Shetter, Mayor, City of Burleson, 141 West Renfro Street, Burleson, TX 76028 | 141 West Renfro Street, Burleson, TX 76028 | June 21, 2012 | 485459
Johnson (FEMA Docket No.: B-1249) | City of Burleson (11-06-2745P) | The Honorable Ken D. Shetter, Mayor, City of Burleson, 141 West Renfro Street, Burleson, TX 76028 | 141 West Renfro Street, Burleson, TX 76028 | May 24, 2012 | 485459
Parker (FEMA Docket No.: B-1257) | City of Weatherford (11-06-2911P) | The Honorable Dennis Hooks, Mayor, City of Weatherford, 303 Palo Pinto Street, Weatherford, TX 76086 | Department of Code Enforcement, City Hall, 303 Palo Pinto Street, Weatherford, TX 76086 | June 13, 2012 | 480522
Tarrant (FEMA Docket No.: B-1252) | City of North Richland Hills (11-06-2556P) | The Honorable T. Oscar Trevino, Jr., P.E., Mayor, City of North Richland Hills, 7301 Northeast Loop 820, North Richland Hills, TX 76180 | 7301 Northeast Loop 820, North Richland Hills, TX 76180 | May 25, 2012 | 480607
Victoria (FEMA Docket No.: B-1252) | City of Victoria (12-06-0680X) | The Honorable Will Armstrong, Mayor, City of Victoria, 105 West Juan Linn Street, Victoria, TX 77901 | 702 North Main Street, Suite 115, Victoria, TX 77902 | June 1, 2012 | 480638
Wichita (FEMA Docket No.: B-1257) | City of Wichita Falls (11-06-2009P) | The Honorable Glenn Barham, Mayor, City of Wichita Falls, P.O. Box 1431, Wichita Falls, TX 76307 | 1300 7th Street, Wichita Falls, TX 76301 | June 28, 2012 | 480662
Virginia:
Caroline (FEMA Docket No.: B-1257) | Unincorporated areas of Caroline County (11-03-2159P) | The Honorable Floyd W. Thomas, Chairman, Caroline County Board of Supervisors, 212 North Main Street, Bowling Green, VA 22427 | 233 West Broaddus Avenue, Bowling Green, VA 22427 | May 25, 2012 | 510249
City of Richmond (FEMA Docket No.: B-1262) | City of Richmond (11-03-1762P) | The Honorable Dwight C. Jones, Mayor, City of Richmond, 900 East Broad Street, Suite 201, Richmond, VA 23219 | Department of Public Works, 900 East Broad Street, Room 704, Richmond, VA 23219 | August 8, 2012 | 510129
Frederick (FEMA Docket No.: B-1252) | Unincorporated areas of Frederick County (11-03-0806P) | The Honorable Richard C. Shickle, Chairman, Frederick County Board of Supervisors, 107 North Kent Street, Winchester, VA 22601 | Planning and Development Office, 107 North Kent Street, Suite 202, Winchester, VA 22601 | June 8, 2012 | 510063
Loudoun (FEMA Docket No.: B-1257) | Town of Leesburg (11-03-1482P) | The Honorable Kristen C. Umstattd, Mayor, Town of Leesburg, 25 West Market Street, Leesburg, VA 20176 | Department of Plan Review, 25 West Market Street, Leesburg, VA 20176 | July 12, 2012 | 510091
Prince William (FEMA Docket No.: B-1257) | Unincorporated areas of Prince William County (11-03-1518P) | The Honorable Melissa S. Peacor, County Executive, Prince William County James J. McCoart Administration Building, 1 County Complex Court Prince William, VA 22192 | James J. McCoart Administration Building, 1 County Complex Court, Prince William, VA 22192 | July 30, 2012 | 510119
Stafford (FEMA Docket No.: B-1249) | Unincorporated areas of Stafford County (10-03-2108P) | The Honorable L. Mark Dudenhefer, Chairman, Stafford County Board of Supervisors, 1300 Courthouse Road, Stafford, VA 22554 | Stafford County Administration Center, 1300 Courthouse Road, Stafford, VA 22555 | May 17, 2012 | 510154

(Catalog of Federal Domestic Assistance No. 97.022, “Flood Insurance.”)

James A. Walke,
Acting Deputy Associate Administrator for Mitigation, Department of Homeland Security, Federal Emergency Management Agency.

[FR Doc. 2013-03255 Filed 2-12-13; 8:45 am]

BILLING CODE 9110-12-P